DEPARTMENT OF THE INTERIOR

Bureau of Indian Affairs

[234A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold a two-day in-person and online meeting. The purpose of the meeting is to meet the mandates of the Individuals with Disabilities Education Act of 2004 (IDEA) for Indian children with disabilities.

DATES: The BIE Advisory Board meeting will be held Thursday, June 22, 2023, from 8 a.m. to 3:15 p.m., Pacific Daylight Time (PDT) and Friday, June 23, 2023, from 8 a.m. to 4:30 p.m., Pacific Daylight Time (PDT).

ADDRESSES:

• Meeting: All Advisory Board activities and meetings will be conducted in-person with corresponding online access. The onsite meeting location will be at the Chemawa Indian School located at 3700 Chemawa Road NE, Salem, Oregon. For online access, see the SUPPLEMENTARY INFORMATION section of this notice.

• Comments: Public comments can be emailed to the Designated Federal Officer (DFO) at Jennifer.davis@bie.edu; or faxed to (602) 265-0293 Attention: Jennifer Davis, DFO; or mailed or hand delivered to the Bureau of Indian Education, Attention: Jennifer Davis, DFO, 2600 N Central Ave., 12th floor, Suite 250, Phoenix, AZ 85004.

FOR FURTHER INFORMATION CONTACT: Jennifer Davis, DFO, Bureau of Indian Education, 2600 N Central Ave., 12th floor, Suite 250, Phoenix, AZ 85004, Jennifer.Davis@bie.edu, or mobile phone (202) 860-7845. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Federal Advisory Committee Act (5 U.S.C. Ch. 10), the BIE is announcing the Advisory Board will hold its next meeting in-person and online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Meeting Agenda Items

The following agenda items will be for the June 22, 2023 and June 23, 2023 meetings. The reports are regarding special education topics.

• Chemawa Indian School—School leadership team, teachers, school improvement team, parent advisory board. Report on the successes and concerns at your school. What do you see as an opportunity to improve services for children and families in the local community?

• A panel discussion with BIE Off Reservation Board Schools (ORBS), Chemawa Indian School, Flandreau Indian School, Riverside Indian School, and Sherman Indian School. Discussions will include the COVID pandemic and post-COVID, how it affected the school's ability to provide educational services to all students and specifically students with disabilities?

• BIE Special Education Program. Dr. Eugene Thompson, Supervisory Education Specialist. Provide updates about BIE regional conferences, progress update about the U.S. Government Accountability Office (GAO) 2020 report regarding Students with Disabilities Receiving Special Education Services, update about the BIE's Special Education Policy and Procedures Manual, and report on the special education findings regarding the BIE's Fiscal and Programmatic Monitoring for SY22-23.

• State Departments Office of Indian Education. Tribal-State liaison Offices of Indian Education Panel. To discuss services and supports provided to BIE funded schools in each state. Discuss the relationship between the State's Office of Indian Education and BIE funded schools within each state. What funding does the state provide to BIE funded schools when a student does not meet Indian School Equalization Program (ISEP) eligibility criteria?

• Advisory board members will work on identifying priority topics for problems that could be creating barriers for children with disabilities within the BIE school system.

• Advisory board members will work on the developing the agenda for the next board meeting scheduled for September 21-22, 2023.

• Four Public Commenting Sessions will be provided during both meeting days.

○ On Thursday, June 22, 2023 two sessions (15 minutes each) will be provided, 11 to 11:15 a.m. MST and 2 to 2:15 p.m. PDT. Public comments can be provided via webinar or telephone conference call. Please use the online access codes as listed below.

○ On Friday, June 23, 2023 two sessions (15 minutes each) will be provided, 10:30 to 10:45 a.m. PDT and 12:45 to 1 p.m. PDT. Public comments can be provided during the meeting or telephone conference call. Please register for each meeting day to obtain the online meeting access codes as listed below.

Online Meeting Access

To attend the June 22-23, 2023, advisory board meeting please register using this link: https://www.zoomgov.com/meeting/register/vJIsd-2urTIoGYqvBQdLsCW2XyFzejJriFU. Attendees register once and can attend both meeting events. After registering, you will receive a confirmation email containing information about joining the meeting.

Accessibility Request

Please make requests in advance for sign language interpreter services, assistive listening devices, or other reasonable accommodations. Please contact the person listed in the section titled FOR FURTHER INFORMATION CONTACT at least seven (7) business days prior to the meeting to give the Department of the Interior sufficient time to process your request. All reasonable accommodation requests are managed on a case-by-case basis.

Authority: 5 U.S.C. Ch. 10.

Wizipan Garriott,
Principal Deputy Assistant Secretary—Indian Affairs, Exercising by delegation the authority of the Assistant Secretary—Indian Affairs.

[FR Doc. 2023-12200 Filed 6-6-23; 8:45 am]

BILLING CODE 4337-15-P